DEPARTMENT OF THE INTERIOR

Bureau of Land Management

[LLAK930000.L16100000.DF0000]

Notice of Intent To Prepare an Integrated Activity Plan and Environmental Impact Statement for the National Petroleum Reserve—Alaska

AGENCY: Bureau of Land Management, Interior.

ACTION: Notice of Intent.

SUMMARY: The Bureau of Land Management (BLM), Alaska State Office, Anchorage, Alaska, intends to prepare an Integrated Activity Plan (IAP) with an associated Environmental Impact Statement (EIS) for the National Petroleum Reserve-Alaska (NPR-A) planning area. This notice announces the beginning of the scoping period to solicit public input and comments.

DATES: The public scoping period will begin upon publication of this notice in the Federal Register. Formal scoping will end no sooner than 60 days from publication of this notice; a final end date will be announced through a press release and the BLM-Alaska Web site, http://www.blm.gov/ak. Comments on management decisions, resources to be addressed, and issues for analysis will help define the proposed actions and alternatives for the NPR-A IAP/EIS. You can submit comments in writing to the addresses listed below. The BLM will announce all public meetings, times, and locations through the local news media and on the agency Web site. The BLM will hold public scoping meetings in Anaktuvuk Pass, Anchorage, Atqasuk, Barrow, Fairbanks, Nuiqsut, and Wainwright. The BLM may hold additional public scoping meetings in other communities if there is strong community interest.

ADDRESSES: You may submit comments by any of the following methods:

• Web site: http://www.blm.gov/ak.

• Fax: 907-271-5479.

• Mail: BLM Alaska State Office, Attention—NPR-A Planning Team, 222 West 7th Avenue, #13, Anchorage, Alaska 99513-7599.

FOR FURTHER INFORMATION CONTACT: Jim Ducker, 907- 271-3130; e-mail: jducker@blm.gov; or by mail: Bureau of Land Management, 222 West 7th Avenue, #13, Anchorage, Alaska 99513-7599. You may also request to be added to the mailing list. Documents pertinent to this plan may be examined at the following Web site: http://www.blm.gov/ak.

SUPPLEMENTARY INFORMATION: This document provides notice that the BLM intends to prepare an IAP with an associated EIS for the NPR-A planning area. The NPR-A IAP/EIS will consider management of BLM-administered lands within the NPR-A. The lands in the NPR-A total approximately 22.1 million acres of surface and subsurface lands, and an additional 200,000 subsurface-only acres underlying Native Corporation-owned surface lands.

The Naval Petroleum Reserves Production Act (42 U.S.C. 6501, et seq.), as amended, excludes the NPR-A from the application of Section 202 of the Federal Land Policy and Management Act (43 U.S.C. 1701, et seq.), as amended, which is the basis for the BLM's Resource Management Plans. The BLM conducts its planning within NPR-A through IAPs. The BLM complies with all applicable laws in the preparation of an IAP, including the National Environmental Policy Act, the Endangered Species Act, Marine Mammal Protection Act, and the National Historic Preservation Act. The BLM will work collaboratively with interested parties to identify the management decisions best suited to local, regional, and national needs and concerns.

The purpose of the public scoping process is to determine the management decisions and resources to be addressed and the issues for analysis. This information will influence the development of the proposed action and alternatives, and guide the environmental analysis.

You may submit written comments on management decisions and resources to be addressed and issues for analysis to the BLM at any of the public scoping meetings, or use any of the methods listed in the ADDRESSES section above. The result of this planning effort will supersede the current plans for the Northwest (2004) NPR-A, Northeast (2008) NPR-A, and Colville River Special Area (2008). Before including your address, phone number, e-mail address, or other personal identifying information in your comment, you should be aware that your entire comment-including your personal identifying information-may be made publicly available at any time. While you can ask us in your comment to withhold your personal identifying information from public review, we cannot guarantee that we will be able to do so. BLM personnel, through discussions within the BLM and with other agencies, individuals, and outside groups, have identified preliminary issues for analysis and the proposed scope of this plan. Most issues relate to management of oil and gas activities and the protection of resources and residents of the region from those impacts in the NPR-A. Of special note are impacts to the resources and uses of the area near Teshekpuk Lake and to the Western Arctic Caribou Herd. The BLM has developed the following preliminary criteria for developing the proposed actions and alternatives:

• The plan will consider the lands and waters administered by the BLM within the NPR-A.

• All decisions in the plan will be consistent with the Naval Petroleum Reserve Production Act of 1976, including the requirements to manage the NPR-A consistent with the total energy needs for the Nation and to protect the environmental, fish and wildlife, and historical and scenic values of the NPR-A.

• The existing plans defer oil and gas leasing in approximately 1.57 million acres in northwestern NPR-A and 430,000 acres north and east of Teshekpuk Lake. The lands in northwestern NPR-A are deferred from leasing until 2014 and the lands near Teshekpuk Lake until 2018. The new plan will make management decisions for these areas that will become effective at the expiration of their respective deferral periods.

• Action alternatives will be consistent with requirements for protection of spectacled and Stellar's eiders described in the U.S. Fish and Wildlife Service's 2008 Biological Opinion for the northern NPR-A planning areas and any new Biological Opinion received as a part of this planning effort.

• The plan will address oil and gas leasing and will use scoping to identify other management decisions and resources to be addressed.

• The resource protection measures applied to oil and gas authorizations will be as consistent as possible in all areas covered by the plan, recognizing the differing values within the NPR-A.

• The BLM will consider subsistence resources and users and minimize adverse impacts to subsistence uses in accordance with Section 810 of the Alaska National Interest Lands Conservation Act (ANILCA).

• The plan will protect valid existing rights.

• The BLM will consider plans and policies of adjacent land owners/managers.

Julia Dougan,
Acting State Director.

[FR Doc. 2010-18469 Filed 7-27-10; 8:45 am]

BILLING CODE 4310-JA-P